DEPARTMENT OF DEFENSE

Office of the Secretary

[Transmittal Nos. 13-70]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-70 with attached transmittal and policy justification.

Dated: December 23, 2013.
Aaron Siegel,
Alternate OSD Federal Register Liaison Officer, Department of Defense.

Transmittal No. 13-70

Notice of Proposed Issuance of Letter of Offer Pursuant to Section 36(b)(1) of the Arms Export Control Act, as amended

(i) Prospective Purchaser: Pakistan

(ii) Total Estimated Value:

Major Defense Equipment§ * | $ 0 million
Other | $100 million
TOTAL | $100 million

(iii) Description and Quantity or Quantities of Articles or Services under Consideration for Purchase: to provide technical support services, and other related logistics support to assist in the oversight of operations in support of the Pakistan Peace Drive F-16 program.

(iv) Military Department: Air Force (GAF)

(v) Prior Related Cases, if any: FMS Case GAC—$82M—12Mar10

(vi) Sales Commission, Fee, etc., Paid, Offered, or Agreed to be Paid: None

(vii) Sensitivity of Technology Contained in the Defense Article or Defense Services Proposed to be Sold: None

(viii) Date Report Delivered to Congress: 19 December 2013

* as defined in Section 47(6) of the Arms Export Control Act.

POLICY JUSTIFICATION

Pakistan—Technical Support Team (TST)

The Government of Pakistan has requested a possible sale to provide technical support services at Shahbaz and Mushaf Air Bases to assist in the oversight of operations in support of the Pakistan Peace Drive F-16 program. Also included: U.S. Government and contractor technical and logistics support services, and other related elements of logistics support. The estimated cost is $100 million.

This proposed sale will support continuation of the Peace Drive program, which contributes to the foreign policy and national security of the United States by helping to improve the security of a country that has been and continues to be a partner in overseas contingency operations. Pakistan is vital to U.S. foreign policy and national security goals in South Asia.

The proposed sale of this support will not alter the basic military balance in the region.

Implementation of this proposed sale will require the assignment of two U.S. Government and 40 contractor representatives to Pakistan for a period of approximately five years to assist in the oversight of operations as part of the Peace Drive F-16 Program.

The principal contractor is not known at this time and will be determined during contract negotiations. There are no known offset agreements proposed in connection with this potential sale.

There will be no adverse impact on U.S. defense readiness as a result of this proposed sale.

[FR Doc. 2013-31055 Filed 12-26-13; 8:45 am]

BILLING CODE 5001-06-P